NATIONAL AERONAUTICS AND SPACE ADMINISTRATION

[Notice (02-114)]

Government-Owned Inventions, Available for Licensing

ACTION: Notice of availability of inventions for licensing.

SUMMARY: The inventions listed below are assigned to the National Aeronautics and Space Administration, have been filed in the United States Patent and Trademark Office, and are available for licensing.

DATES: September 27, 2002.

FOR FURTHER INFORMATION CONTACT: Bryan Geurts, Goddard Space Flight Center, Mail Code 503, Greenbelt, MD 20771; telephone (301) 286-7351; fax (301) 286-9502.

NASA Case No. GSC-13817-4: Application Of HHT For Acoustical Signal Analysis: With Special Emphases On Speech Analysis, Synthesis, Identification, Enhancement, And Machine Health Monitoring;

NASA Case No. GSC-13817-5: Empirical Mode Decomposition Apparatus, Method And Article Of Manufacture For Analyzing Biological Signals And Performing Curve Fitting;

NASA Case No. GSC-14147-2: Process For Producing High Quality Optically Polished Surfaces On Bare Aluminum Substrates;

NASA Case No. GSC-13905-1: 1-Way Bearing;

NASA Case No. GSC-14413-1: Thrust Rollers;

NASA Case No. GSC-14330-1: Method And Apparatus For Two-Dimensional Absolute Optical Encoding;

NASA Case No. GSC-14435-1: Innovative Manufacturing Procedure For Low Cost And High Quality Carbon Nanotubes;

NASA Case No. GSC-14463-1: Autonomous Navigation System Based On GPS And Magnetometer Data (GPS-MAGNAV);

NASA Case No. GSC-14473-1: A Space-Based Internet Protocol System For Vehicle Tracking, Systems Monitoring And Control;

NASA Case No. GSC-14305-1: Method For Implementation Of Recursive Hierarchical Segmentation On Parallel Computers;

NASA Case No. GSC-13874-2: Adhesive Bubble Removal Method And Apparatus For Fiber Optic Applications;

NASA Case No. GSC-14087-1: Using The Global Positioning Satellite System To Determine Attitude Rates Using Doppler Effects;

NASA Case No. GSC-14409-1: Standard Autonomous File Server (SAFS).

Dated: September 20, 2002.
Robert M. Stephens,
Deputy General Counsel.

[FR Doc. 02-24530 Filed 9-26-02; 8:45 am]

BILLING CODE 7510-01-P